DEPARTMENT OF ENERGY

Federal Energy Regulatory Commission

[Docket No. OR04-3-000]

America West Airlines, Inc., Southwest Airlines Co., Northwest Airlines, Inc., and Continental Airlines, Inc., Complainants v. SFPP, L.P., Respondent; Notice of Complaint Requesting Fast Track Processing

September 22, 2004.

Take notice that on September 21, 2004, America West Airlines, Inc. (“America West”), Southwest Airlines Co. (“Southwest Airlines”), Northwest Airlines, Inc., (“Northwest Airlines”) and Continental Airlines, Inc., (“Continental Airlines”) (collectively, “Airline Complainants”) filed a complaint against SFPP, L.P. (SFPP) pursuant to Rule 206 of the Commission's Rules of Practice and Procedure (18 CFR 385.206) and the Procedural Rules Applicable to Oil Pipline Proceedings (18 CFR 343.1(A)). Airline Complainants state that SFPP has violated and continues to violate the Interstate Commerce Act, 49 U.S.C. App. 1 et seq. by charging unjust and unreasonable rates and charges for all of SFPP's jurisdictional interstate services associated with its West Line and its Watson VDC facilities.

Airline Complainants request that the Commission: (1) Examine the challenge rates and charges collected by SFPP for its West Line and Watson VDC jurisdictional interstate service; (2) determine, consistent with the Commission precedent, that SFPP's rates for the West Line and the Watson VDC are unjust and unreasonable; (3) determine just, reasonable, and non-discriminatory rates for SFPP's West Line and Watson VDC jurisdictional interstate services; (4) order reparations and/or refunds to Airline Complainants, including appropriate interest thereon, for the applicable reparations and/or refunds periods; (5) award Airline Complainants reasonable attorney's fees and costs; and (6) order such other relief as may be appropriate.

Airline Complainants state that they have served this complaint on SFPP.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. eastern standard time on October 12, 2004.

Linda Mitry,
Acting Secretary.

[FR Doc. E4-2394 Filed 9-27-04; 8:45 am]

BILLING CODE 6717-01-P